DEPARTMENT OF COMMERCE

National Oceanic and Atmospheric Administration

RIN 0648-AY22

Fisheries of the Caribbean, Gulf of Mexico, South Atlantic; Gulf of Mexico Fisheries; Generic Amendment for Annual Catch Limits

AGENCY: National Marine Fisheries Service (NMFS), National Oceanic and Administration (NOAA), Commerce.

ACTION: Notice of Intent (NOI) to prepare a draft environmental impact statement (DEIS); notice of scoping meetings; requests for comments.

SUMMARY: The Gulf of Mexico Fishery Management Council (Council) and NMFS intend to prepare a DEIS to describe and analyze management alternatives to be included in a generic amendment to five of the Fishery Management Plans (FMPs) for the Gulf of Mexico. These alternatives will consider measures to implement annual catch limits (ACLs), accountability measures (AMs), and record keeping and reporting requirements. This notice of intent solicits public comments on the scope of issues to be addressed in the DEIS.

DATES: Written comments on the scope of issues to be addressed in the DEIS must be received by the Council October 15, 2009. A series of scoping meetings will be held in September 2009. See SUPPLEMENTARY INFORMATION below for the specific dates, times, and locations of the scoping meetings.

ADDRESSES: Written comments on the scope of the DEIS, suggested alternatives and potential impacts, and requests for additional information should be sent to Rich Malinowski, NMFS, 263 13th Avenue South, Saint Petersburg, FL 33701-5505; fax 727-825-5308; or to the Gulf of Mexico Fishery Management Council, 2203 North Lois Avenue, Suite 1100, Tampa, FL 33607; fax 813-348-1711. Comments may also be sent by e-mail to 0648-AY22@noaa.gov.

FOR FURTHER INFORMATION CONTACT: Rich Malinowski, phone: (727) 824-5305; fax: (727) 824-5308; email: rich.malinowski@noaa.gov.

SUPPLEMENTARY INFORMATION: On January 12, 2007, Congress amended the Magnuson-Stevens Fishery Conservation and Management Act (MSA) with passage of the Magnuson-Stevens Fishery Conservation and Management Reauthorization Act -(MSRA). While maintaining the requirement that “conservation and management measures shall prevent overfishing while achieving, on a continuing basis, the optimum yield from each fishery for the United States fishing industry,” the MSRA added new requirements to end and prevent overfishing. The new requirements include the use of ACLs, and “measures to ensure accountability” (AMs).

Specifically, the MSRA requires that FMPs “establish a mechanism for specifying annual catch limits in the plan (including a multi-year plan), implementing regulations, or annual specifications, at a level such that overfishing does not occur in the fishery, including measures to ensure accountability” (Section 303(a)(15)). Further, the MSRA requires such measures be implemented by 2010 for fisheries determined by the Secretary of Commerce (Secretary) to be subject to overfishing and by 2011 for all other fisheries. The AMs are management controls that ensure the ACLs are not exceeded. Examples of AMs include corrective measures if overages occur and implementation of an in-season monitoring program.

The generic amendment is intended to modify five of the Council's FMPs. These include FMPs for: Reef Fish Resources, Shrimp, Stone Crab, Coral and Coral Reef Resources, and Red Drum. NMFS and the Council will develop these ACLs in co-operation with the Scientific and Statistical Committee. NMFS, in collaboration with the Council, will develop a DEIS to evaluate alternatives and actions for the ACLs. Some examples of these actions include: establishing sector specific ACLs, selecting levels of risk associated with species yields, considering removal or withdrawal of species from FMPs, and delegating species or species assemblages to state regulators.

In accordance with NOAA's Administrative Order NAO 216-6, Section 5.02(c), the Council has identified this preliminary range of alternatives as a means to initiate discussion for scoping purposes only. This may not represent the full range of alternatives that eventually will be evaluated by the Council.

Locations, Dates and Times of Scoping Meetings

Scoping meetings will begin at 6 p.m. at the following locations:

Monday, September 21, 2009—Monroe County Government Center, 1200 Truman Avenue, Key West, FL 33040.

Monday, September 21, 2009—Louisiana Wildlife & Fisheries, 195 Ludwig Annex, Grand Isle, LA 70358.

Tuesday, September 22, 2009—Banana Bay, 4590 Overseas Highway, Marathon, FL 33050.

Tuesday, September 22, 2009—Best Western, 7921 Lamar Poole Road, Biloxi, MS 39532.

Tuesday, September 22, 2009—Holiday Inn- Emerald Beach, 1102 South Shoreline Boulevard, Corpus Christi, TX 78401.

Wednesday, September 23, 2009—City of Madeira Beach,300 Municipal Drive, Madeira Beach, FL 33708.

Wednesday, September 23, 2009—Springhill Suites, 7922 Moley Road, Houston, TX 77061.

Wednesday, September 23, 2009—City of Orange Beach, 27235 Canal Road, Orange Beach, AL 36561.

Wednesday, September 24, 2009—NMFS Lab, 3500 Dellwood Beach Drive, Panama City, FL 32408.

Copies of the scoping document are available from the Council (see ADDRESSES) or may be downloaded from the Council Web site, www.gulfcouncil.org.

Special Accommodations

The meetings will be physically accessible to people with disabilities. Requests for sign language interpretation or other auxiliary aids should be directed to the Council (see ADDRESSES).

After the DEIS associated with the regulatory action is completed, it will be filed with the Environmental Protection Agency (EPA). The EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS) and before adopting final management measures for the action. NMFS will submit both the final measures and the supporting FEIS to the Secretary for review, approval, and implementation. NMFS will announce in the Federal Register the availability of the final amendment and FEIS for public review during the secretarial review period, and will consider all public comments prior to final agency action to approve, disapprove, or partially approve the final amendment.

Authority: 16 U.S.C. 1801 et seq.

Dated: September 9, 2009.
Emily H. Menashes,
Acting Director, Office of Sustainable Fisheries, National Marine Fisheries Service.

[FR Doc. E9-22178 Filed 9-14-09; 8:45 am]

BILLING CODE 3510-22-S